DEPARTMENT OF TRANSPORTATION

Federal Aviation Administration

Release of Airport Property, Martin County Airport, Stuart, FL

AGENCY: Federal Aviation Administration (FAA), DOT.

ACTION: Notice and request for public comment.

SUMMARY: The FAA hereby proposes to rule and invites public comment on its intent to release certain obligated properties, namely approximately 200 acres at the Martin County Airport, Stuart, FL, from the conditions, reservations, and restrictions as contained in a Surplus Property Agreement between the FAA and the Martin County, dated July 1, 1947, and in accordance with the provisions of Title 49 U.S.C. 47153(c). In anticipation and consideration of its request for a release, Martin County contracted for the installation of Engineered Materials Arresting Systems (EMAS) on Runway 12-30 at the Martin County Airport. The County also advised that its release request is designed to clarify the airport property and to correct ambiguities in title records since portions of the property contemplated by its release requested have been transferred over a number of years to a number of private and public parties.

The release of the airport premises thus allows for the FAA and Martin County to establish a reliable and accurate boundary of obligated airport property. The property to be released includes parcels occupied by portions of the Martin County Golf Course, the YMCA, residential developments, a drainage area, and vacant lands. These parcels are currently designated as non-aeronautical use. The County accommodated the installation EMAS on Runway 12-30, enhancing safety for aeronautical users without impacting useable runway length in consideration of its request that a portion of the airport property be released of its federal obligations. The release of the nearly 200 acres also allows the FAA and the airport sponsor to establish and agree upon the boundary of airport property obligated through the Surplus Property Act of 1944. Additionally, the release will not prevent accomplishing the purpose for which the property was made subject to the terms, conditions, reservations, or restrictions, and will advance the interests of the United States in civil aviation.

The FAA has preliminarily determined that the request to release property at the Martin County Airport submitted by the County met the procedural requirements of the Federal Aviation Regulations, 14 CFR part 155.

Documents reflecting the Sponsor's request are available, by appointment only, for inspection at the Martin County Airport and the FAA Airports District Office.

SUPPLEMENTARY INFORMATION: Title 49 U.S.C. 47153(c) requires that before the FAA may waive any term imposed requiring that an interest in land be used for an aeronautical purpose, the FAA must provide notice to the public not less than 39 days before waiving the term. Companion provisions are contained in Section 125 of The Wendell H. Ford Aviation Investment and Reform Act for the 21st Century (AIR-21) which requires the FAA to provide an opportunity for public notice and comment prior to the “waiver” or “modification” of a sponsor's Federal obligation to use certain airport land for non-aeronautical purposes.

DATES: Comments are due on or before AGC January 3, 2012.

ADDRESSES: Documents are available for review at the Martin County Airport, and the FAA Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

Bart Vernace,
Acting Manager, Orlando Airports District Office, Southern Region.

[FR Doc. 2011-30885 Filed 11-30-11; 8:45 am]

BILLING CODE 4910-13-M